DEPARTMENT OF COMMERCE

National Oceanic and Atmospheric Administration

50 CFR Part 679

[Docket No. 240417-0111]

RIN 0648-BM42

Fisheries of the Exclusive Economic Zone Off Alaska; Cook Inlet Salmon; Amendment 16; Correction

AGENCY: National Marine Fisheries Service (NMFS), National Oceanic and Atmospheric Administration (NOAA), Commerce.

ACTION: Final rule; correction.

SUMMARY: On April 30, 2024, NMFS published a final rule to implement amendment 16 to the Fishery Management Plan for the Salmon Fisheries in the Exclusive Economic Zone off Alaska. The final rule included an incorrect length for drift gillnet gear and an unclear heading title. These corrections fix these errors.

DATES: Effective on May 30, 2024.

FOR FURTHER INFORMATION CONTACT: Adam Zaleski, 907-586-7228.

SUPPLEMENTARY INFORMATION: The NMFS final rule to implement amendment 16 to the Fishery Management Plan for the Salmon Fisheries in the Exclusive Economic Zone off Alaska (89 FR 34718, April 30, 2024) included an incorrect length for drift gillnet gear at § 679.118(f)(1) of 200 fathoms (1.1 kilometer). NMFS is now correcting the final rule to reflect the correct drift gillnet gear length of 200 fathoms (365.76 meters).

Further, the heading at § 679.115(b)(5) incorrectly described the requirement to submit information in an eLandings delivery report as only applying to a Registered Salmon Receiver. NMFS is now modifying the heading for consistency with the following regulations to clarify that the eLandings delivery report requirement under § 679.115(b)(5) applies to both Registered Salmon Receivers and managers of salmon shoreside processors.

Correction

In FR Doc. 2024-08664, published April 30, 2024, at 89 FR 34718, the following corrections are made:

1. On page 34762, in the first column, the introductory text of § 679.115(b)(5) is corrected to read as follows:

§ 679.115 [Corrected]

* * * * *

(b) * * *

(5) Information submitted in an eLandings landing report. The manager and a Registered Salmon Receiver that receives salmon from a vessel issued an SFFP under § 679.114 and that is required to have an SFPP or RSRP under § 679.114(c) or (d) must use eLandings or other NMFS-approved software to submit a daily landing report during the fishing year to report processor identification information and the following information under paragraphs (b)(5)(i)(A) through (C) of this section:

* * * * *

2. On page 34764, in the third column, § 679.118(f)(1) is corrected to read as follows:

§ 679.118 [Corrected]

* * * * *

(f) * * * (1) Size. Drift gillnet gear must be no longer than 200 fathoms (365.76 m) in length, 45 meshes deep, and have a mesh size of no greater than 6 inches (15.24 cm).

* * * * *

Dated: May 22, 2024.
Samuel D. Rauch III,
Deputy Assistant Administrator for Regulatory Programs, National Marine Fisheries Service.

[FR Doc. 2024-11724 Filed 5-28-24; 8:45 am]

BILLING CODE 3510-22-P